DEPARTMENT OF TRANSPORTATION

Federal Aviation Administration

Notice of Opportunity for Public Comment on Proposed Land Swap of Federally Acquired Property at Golden Triangle Regional Airport, Columbus, Mississippi

AGENCY: Federal Aviation Administration, DOT.

ACTION: Request for public comments.

SUMMARY: Notice is being given that the FAA is considering a request from Golden Triangle Regional Airport Authority (GTRAA) to release and dispose of 143.95± acres of airport property in exchange for 236.14 ± acres of agricultural land to be used for future aeronautical development. The property proposed for release is made up of three parcels. Parcel 7A is approximately 31.16 acres, Parcel 7B is approximately 58.9 acres, and Parcel 7C is approximately 73.2 acres. These three parcels are currently undeveloped and not needed for aeronautical use. The property is planned to be developed into an airport compatible industrial use aluminum mill. While no money will exchange hands in this transaction, the land to be given to the airport in exchange for the property in question is higher in acreage, value, and utility in accordance with FAA's Policy and Procedures Concerning the Use of Airport Revenue.

DATES: Comments must be received on or before January 6, 2023.

ADDRESSES: The public may send comments using the following methods:

• Federal eRulemaking Portal: Go to https://www.regulations.gov, and follow the instructions on providing comments.

• Fax: 601-664-9901.

• Mail: David Shumate, Program Manager, Jackson Airports District Office, 100 West Cross St., Suite B, Jackson, MS 39208-2307.

• Hand Delivery: Deliver to mail address above between 8 a.m. and 5 p.m. Monday through Friday, excluding Federal holidays.

In addition, one copy of any comments submitted to the FAA must be mailed or delivered to GTRAA, Attn: Matt Dowell, A.A.E, Executive Director, 2080 Airport Rd, Columbus, MS 39701

Interested persons may inspect the request and supporting documents by contacting the FAA at the address listed under FOR FURTHER INFORMATION CONTACT.

FOR FURTHER INFORMATION CONTACT: David Shumate, Program Manager, Jackson Airports District Office, 100 West Cross St., Suite B, Jackson, MS 39208-2307. The land release request may be reviewed in person at this same location.

Issued in Jackson, Mississippi, on December 1, 2022.
Rans D. Black,
Manager, Jackson Airports District Office, Southern Region.

[FR Doc. 2022-26509 Filed 12-6-22; 8:45 am]

BILLING CODE 4910-13-P